DEPARTMENT OF HOUSING AND URBAN DEVELOPMENT

[Docket No. FR-5300-FA-23]

Announcement of Funding Awards for the HOPE VI Revitalization Grant Program for Fiscal Year 2009

AGENCY: Office of the Assistant Secretary for Public and Indian Housing, HUD.

ACTION: Announcement of funding awards.

SUMMARY: In accordance with Section 102(a)(4)(C) of the Department of Housing and Urban Development Reform Act of 1989, this announcement notifies the public of funding decisions made by the Department in a competition for funding under the Fiscal Year 2009 (FY 2009) Notice of Funding Availability (NOFA) for the HOPE VI Revitalization grant program. This announcement contains the names and addresses of this FY 2009's award recipients.

FOR FURTHER INFORMATION CONTACT: For questions concerning the HOPE VI Revitalization grant awards, contact the Ms. Leigh van Rij, Office of Public Housing Investments, 451 7th Street SW., Room 4130, Washington, DC 20410, telephone (202) 402-5788. Hearing or speech-impaired individuals may access this number via TTY by calling the toll-free Federal Information Relay Service at (800) 877-8339.

SUPPLEMENTARY INFORMATION: This program provides grants to public housing authorities (PHAs) to: (1) Improve the living environment for public housing residents of severely distressed public housing projects through the demolition, rehabilitation, reconfiguration, or replacement of obsolete public housing projects; (2) revitalize sites on which such public housing projects are located and contribute to the improvement of the surrounding neighborhood; (3) provide housing that will avoid or decrease the concentration of very low-income families; and (4) build sustainable communities.

The FY 2009 awards announced in this Notice were selected for funding in a competition, the results of which were announced on May 26, 2010. The grantees were posted at that time to the HUD Web site at: http://www.hud.gov/offices/pih/programs/ph/hope6/grants/revitalization/09/2009revawards.cfm. Applications were scored and selected for funding based on the selection criteria in the FY 2009 HOPE VI Revitalization NOFA.

The amount appropriated in FY 2009 to fund HOPE VI was $120,000,000. Of this amount, $4,000,000 was used for HOPE VI Main Street grant awards and $2,400,000 of this amount was set-aside to fund technical assistance and contract expertise. The remaining $113,600,000 was used to fund the FY 2009 HOPE VI Revitalization grants.

In accordance with section 102 (a)(4)(C) of the Department of Housing and Urban Development Reform Act of 1989 (103 Stat.1987, 42 U.S.C. 3545), the Department is publishing the names, addresses, and amounts of the six awards made under the FY 2009 HOPE VI Revitalization grant competition in Appendix A to this document.

Dated: November 16, 2010.
Sandra B. Henriquez,
Assistant Secretary for Public and Indian Housing.

Appendix A
HOPE VI revitalization grantee name and contact information | Amount funded | Project funded
1 Housing Authority of the City of Charlotte, 1301 South Boulevard, Charlotte, NC 28203, (704) 336-5183 | $20,900,000 | Boulevard Homes.
2 Housing Authority of Covington, 2300 Madison Avenue, Covington, KY 41014, (859) 292-2145 | 17,000,000 | Jacob Price Homes.
3 Housing Authority of the City of Dallas, 3939 North Hampton Road, Dallas, TX 75212, (214) 951-8301 | 22,000,000 | Turner Courts.
4 Housing Authority of the City of Jersey City, 400 U.S. Highway #1, Jersey City, NJ 07306, (201) 706-4601 | 9,700,000 | A. Harry Moore Apartments.
5 Memphis Housing Authority, 700 Adams Avenue, Memphis, TN 38105, (901) 544-1102 | 22,000,000 | Cleaborn Homes.
6 Housing Authority of the City of Trenton, 875 New Willow Street, Trenton, NJ 08638, (609) 278-5026 | 22,000,000 | Miller Homes.
Total | 113,600,000 |

[FR Doc. 2010-29392 Filed 11-19-10; 8:45 am]

BILLING CODE 4210-67-P